DEPARTMENT OF ENERGY

Federal Energy Regulatory Commission

[Project No. 176-018]

City of Escondido, California, and Vista Irrigation District; Notice of Application Accepted for Filing, Ready for Environmental Analysis, and Soliciting Comments, Motions To Intervene, Protests, Recommendations, and Terms and Conditions

Take notice that the following hydroelectric application has been filed with the Commission and is available for public inspection:

a. Application Type: Conduit Exemption.

b. Project No: 176-018.

c. Date Filed: December 3, 2010.

d. Applicant: City of Escondido, California, (Escondido) and Vista Irrigation District (Vista).

e. Name of Project: Bear Valley Powerhouse Project.

f. Location: On the San Luis Rey River in San Diego County, near Escondido, California. The project occupies 290 acres of Federal lands under the jurisdiction of the U.S. Forest Service and the U.S. Bureau of Land Management. The project also occupies approximately 0.25 acre of Indian reservation lands owned by the La Jolla, San Pasqual, and Rincon Indian Tribes.

g. Filed Pursuant to: Federal Power Act 16 U.S.C. 791a-825r).

h. Applicant Contact: Donald R. Lincoln, Special Counsel for the City of Escondido, Endeman, Lincoln, Turek & Heater, LLP, 600 “B” Street, Suite 2400, San Diego, CA 92101-4582, (619) 544-0123; and Don A. Smith, Director of Water Resources, Vista Irrigation District, 1391 Engineer Street, Vista, CA 92081, (207) 945-5621.

i. FERC Contact: Carolyn Templeton, (202) 502-8785, or carolyn.templeton@ferc.gov.

j. This application has been accepted for filing and is now ready for environmental analysis.

k. Deadline for filing comments, motions to intervene, protests, recommendations, and terms and conditions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-176-018) on any documents filed.

The Commission's Rules of Practice require all intervenors filing documents with the Commission to serve a copy of that document on each person on the official service list for the project. Further, if an intervenor files comments or documents with the Commission relating to the merits of an issue that may affect the responsibilities of a particular resource agency, they must also serve a copy of the document on that resource agency.

l. Description of Project: Escondido and Vista are the joint current owners and operators of the currently licensed Escondido Hydroelectric Project facilities and hold the current Commission license for the Escondido Hydroelectric Project. The primary purpose of the project has historically been for water delivery for consumptive purposes, including agricultural and municipal-industrial uses.

The most upstream component of the Escondido Hydroelectric Project is the Escondido canal diversion dam, a concrete structure located on the San Luis Rey River within the La Jolla Indian Reservation approximately 10 miles downstream from Lake Henshaw. The dam diverts San Luis Rey River water into the 13.6-mile-long Escondido canal that extends from a diversion dam to Lake Wohlford. The canal traverses the La Jolla, Rincon, and San Pasqual Indian reservations, as well as other Federal and private lands. Historically, the canal has delivered 10 to 15 percent of the waters diverted into the Escondido canal to the Rincon Indian Reservation. Lake Wohlford stores the water obtained from the San Luis Rey River and Escondido Creek watersheds, which is then used consumptively by Escondido and Vista. Water is delivered from Lake Wohlford through a 4,022-foot-long penstock through the Bear Valley powerhouse or bypasses the powerhouse. The powerhouse location takes advantage of the 495 feet of elevation drop from Lake Wohlford to the water delivery point. From the Bear Valley powerhouse, water is delivered via underground conduits to Escondido's water treatment plant. From the treatment plant, water is distributed for consumptive uses on a prorated basis into the distribution systems of both Escondido and Vista.

The hydroelectric generation component of the water conveyance system consists of the existing Bear Valley powerhouse, which has a nameplate generation capacity of 1.5 megawatt. The powerhouse consists of two 1,010-horsepower impulse turbines and two 750 kilowatt (kW) generators which operate at a gross head of 495 feet. Two 16-inch submerged sleeve valves allow for water delivery from the Project when it is necessary to bypass the turbines due to maintenance or other operational constraints. The average annual production was 4,903,000 kilowatt-hours (kWh) per year for fiscal year 1987 through 2006. The capacity and energy is sold to San Diego Gas & Electric Company (at avoided cost rates).

In a concurrent filing, the applicants have filed an application for surrender of the remaining facilities of the Escondido Hydroelectric Project.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

You may also register online at http://www.ferc.gov/docs-filing/esubscription.asp to be notified via e-mail of new filings and issuances related to this or other pending projects. For assistance, contact FERC Online Support.

p. Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

q. All filings must (1) bear in all capital letters the title “PROTEST,” “MOTION TO INTERVENE,” “COMMENTS,” “REPLY COMMENTS,”

“RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments, recommendations, or terms and conditions must set forth their evidentiary basis and otherwise comply with the requirements of 18 CFR 4.34(b). Agencies may obtain copies of the application directly from the applicant. Any of these documents must be filed by providing the original and eight copies to: The Secretary, Federal Energy Regulatory Commission, 888 First Street, NE., Washington, DC 20426. An additional copy must be sent to Director, Division of Hydropower Administration and Compliance, Office of Energy Projects, Federal Energy Regulatory Commission, at the above address. A copy of any protest or motion to intervene must be served upon each representative of the applicant specified in the particular application. A copy of all other filings in reference to this application must be accompanied by proof of service on all persons listed in the service list prepared by the Commission in this proceeding, in accordance with 18 CFR 4.34(b) and 385.2010.

r. With this notice, we are initiating consultation with the California State Historic Preservation Officer, as required by section 106 of the National Historic Preservation Act, and the regulations of the Advisory Council on Historic Preservation, 36 CFR 800.4.

Dated: March 1, 2011.
Kimberly D. Bose,
Secretary.

[FR Doc. 2011-5210 Filed 3-7-11; 8:45 am]

BILLING CODE 6717-01-P